DEPARTMENT OF ENERGY

Federal Energy Regulatory Commission

[Project No. 13290-000]

Riverbank Energy Center, LLC; Notice of Competing Preliminary Permit Application Accepted for Filing and Soliciting Comments and Motions To Intervene

October 16, 2008.

On September 24, 2008, Riverbank Energy Center, LLC filed an application, pursuant to section 4(f) of the Federal Power Act (FPA), proposing to study the feasibility of the Wiscasset Pumped Storage Project to be located on the Back River in Lincoln County, Maine.

The proposed project would consist of: (1) The Back River as an upper reservoir; (2) an underground lower reservoir with an elevation of 1,800 feet below MSL and a storage capacity of 3,775 acre-feet; (3) four 13 foot diameter, 2,000 foot long, concrete and steel penstocks; (4) an underground powerhouse containing four pump/turbine units with a total installed capacity of 1,000 MW; (5) a 345 kV, 4,000 foot long transmission line and; (6) appurtenant facilities. The annual production would be 2,190 GWh which would be sold to a local utility.

Applicant Contact: William S. Helmer, Esq., 194 Washington Ave. Suite 315, Albany, New York 12210 (518) 689-3570.

FERC Contact: Steven Sachs (202) 502-8666.

Competing Application: This application competes with Project No. 13246-000 filed June 23, 2008. Competing applications must be filed on or before October 19, 2008.

Deadline for filing comments, motions to intervene: 60 days from the issuance of this notice. Comments, motions to intervene, notices of intent and competing applications may be filed electronically via the internet. See 18 CFR 385.2001(a)(1)(iii) and the instructions on the Commission's website under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of the Commission's Web site at http://www.ferc.gov/docs-filing/elibrary.asp. Enter the docket number (P-13290) in the docket number field to access the document. For assistance, call toll-free 1-866-208-3372.

Kimberly D. Bose,
Secretary.

[FR Doc. E8-25135 Filed 10-21-08; 8:45 am]

BILLING CODE 6717-01-P